DEPARTMENT OF VETERANS AFFAIRS

Special Medical Advisory Group, Notice of Meeting

As required by the Federal Advisory Committee Act, Public Law 92-463, the Department of Veterans Affairs gives notice that the Special Medical Advisory Group has scheduled a meeting on March 27, 2002. The meeting will convene at 9 a.m. and end at 2 p.m. The meeting will be held in Room 830 at VA Central Office, 810 Vermont Avenue, NW., Washington, DC. The purpose of the meeting is to advise the Secretary and Under Secretary for Health relative to the care and treatment of disabled veterans, and other matters pertinent to the Department's Veterans Health Administration (VHA).

The agenda for the meeting will include an update on VHA Quality and Performance program and an update on Capital Asset Realignment for Enhanced Services (CARES) program.

All sessions will be open to the public. Those wishing to attend should contact Celestine Brockington, Office of the Under Secretary for Health, Department of Veterans Affairs. Her phone number is 202.273.5878.

Dated: February 26, 2002.
By Direction of the Secretary of Veterans Affairs.
Nora Egan,
Committee Management Officer.

[FR Doc. 02-5135 Filed 3-4-02; 8:45 am]

BILLING CODE 8320-01-M